DEPARTMENT OF TRANSPORTATION

Federal Aviation Administration

Notice of Intent To Rule on Request To Release Conditions of Airport Property at the Colorado Springs Airport, Colorado Springs, CO

AGENCY: Federal Aviation Administration (FAA), DOT.

ACTION: Notice of request to release airport property.

SUMMARY: The FAA proposes to rule and invite public comment on the release of land at the Colorado Springs Airport under the provisions of Section 125 of the Wendell H. Ford Aviation Investment Reform Act for the 21st Century (AIR21).

DATES: Comments must be received on or before March 23, 2006.

ADDRESSES: Comments on this application may be mailed or delivered to the FAA at the following address: Mr. Craig Sparks, Manager, Federal Aviation Administration, Northwest Mountain Region, Airports Division, Denver Airports District Office, 26805 E. 68th Ave., Suite 224, Denver, Colorado, 80249.

In addition, one copy of any comments submitted to the FAA must be mailed or delivered to Mr. Mark Earle, Aviation Director, Colorado Springs Municipal Airport, 7770 Drennan Road, Suite 50, Colorado Springs, Colorado, 80916.

FOR FURTHER INFORMATION CONTACT: Ms. Mindy Lee, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Colorado Springs Airport under the provisions of the AIR 21.

On February 3, 2006, the FAA determined that the request to release property at the Colorado Springs Airport submitted by the city of Colorado Springs met the procedural requirements of the Federal Aviation Regulations, Part 155. The FAA may approve the request, in whole or in part, no later than March 31, 2006.

The following is a brief overview of the request:

The Colorado Springs Airport requests the release of 1,457.2 acres of airport property (Tract I—Parcel 10-B, Tract VII—Parcel 17, Tract IX-A—Parcel 19A-B), Tract X-A—Parcel 20A-B), Tract XII A—Parcel 21A, Tract XII-B—Parcel 21b.2-B) from aeronautical use to non-aeronautical use. The purpose of this release is to allow the Colorado Springs Municipal Airport to develop a business park that will allow the airport to diversify revenue. The lease of these parcels will provide funds for airport improvements.

Any person may inspect the request by appointment at the FAA office listed above under FOR FURTHER INFORMATION CONTACT.

In addition, any person may, inspect the application, notice and other documents germane to the application in person at Colorado Springs Municipal Airport, 7770 Drennan Road, Suite 50, Colorado Springs, CO 80916.

Issued in Denver, Colorado on February 7, 2006.
Craig Sparks,
Manager, Denver Airports District Office.

[FR Doc. 06-1570 Filed 2-17-06; 8:45 am]

BILLING CODE 4910-13-M